DEPARTMENT OF TRANSPORTATION

Federal Aviation Administration

Proposed Revision to Advisory Circular 21-19A, Installation of Used Engines in New Production Aircraft

AGENCY: Federal Aviation Administration (FAA), DOT.

ACTION: Notice.

SUMMARY: This notice announces the availability of proposed Advisory Circular (AC) 21-19A, Installation of Used Engines in New Production Aircraft, for review and comments.

The proposed AC 21-19A provides information and guidance concerning an acceptable means, but not the only means, of demonstration compliance with the requirements Title 14, Code of Federal Regulations part 21, Certification Procedures for Products and Parts.

DATES: Comments submitted must identify the proposed AC 21-19A and be received by December 30, 2002.

ADDRESSES: Copies of the proposed AC 21-19A can be obtained from and comments may be returned to the following: Federal Aviation Administration, Production Certification Branch, AIR-210, Production and Airworthiness Division, AIR-200, Aircraft Certification Service, 800 Independence Avenue, SW., Washington, DC 20591.

FOR FURTHER INFORMATION CONTACT: Johnnie Smith, Production Certification Branch, AIR-210, Production and Airworthiness Division, Room 815, Aircraft Certification Service, Federal Aviation Administration, 800 Independence Avenue, SW., Washington, DC 20591. (202) 267-8361.

SUPPLEMENTARY INFORMATION:

Background

The proposed revised AC 21-19A provides information and guidance to FAA Production approval applicants or holders allowing the use of used engines in new production aircraft under certain specified criteria. This revision updates the guidance in accordance with current formatting and plain language standards. It also updates all cited references, and provides definitions relevant to the guidance provided. Additional guidance is also provided to the manufacturer who wants to install a used aircraft engine.

Comments Invited

Interested persons are invited to comment on the revised AC 21-19A listed in this notice by submitting such written data, views, or arguments as they desire to the aforementioned specified address. All communications received on or before the closing date for comments specified above will be considered by the Director, Aircraft Certification Service, before issuing the final AC.

Comments received on the proposed AC 21-19A may be examined before and after the comments closing date in Room 815, FAA headquarters building (FOB-10A), 800 Independence Avenue, SW., Washington, DC 20591, between 8:30 a.m. and 4:30 p.m.

Issued in Washington, DC, on October 4, 2002.
Frank Paskiewicz,
Manager, Production and Airworthiness Division.

[FR Doc. 02-27730 Filed 10-30-02; 8:45 am]

BILLING CODE 4910-13-M